DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: An Exploration of Peer Recovery Support Services Across State Behavioral Health Systems—NEW

The Substance Abuse and Mental Health Services Administration (SAMHSA), Center for Behavioral Health Statistics and Quality (CBHSQ) is proposing a pilot study to obtain an overview of peer recovery services across state behavioral health systems. In an effort to support behavioral health systems' adoption and management of recovery oriented services, SAMHSA created the Bringing Recovery Supports to Scale Technical Assistance Center Strategy (BRSS TACS). BRSS TACS is a mechanism for implementing SAMHSA's Recovery Support Strategic Initiative. A goal of this initiative is to understand the finance and quality assurance issues that impact the development of peer recovery personnel in the workforce and the services they deliver. A grasp of these complex issues can enable BRSS TACS to advance its work of supporting states by creating policy guidance on best practices for effectively deploying peer recovery support services in integrated healthcare delivery systems as mandated by the Affordable Care Act.

The proposed pilot study will utilize a semi-structured interview questionnaire with state and organizational representatives from mental health and substance abuse agencies. Questions of interest include an (1) examination of how reimbursement of peer support services is linked to peer roles, delivery settings, and funding streams; (2) quality assurance issues such as credentialing and supervision of peer support personnel; (3) procedures for monitoring, evaluating, and sustaining peer support services; and (4) challenges of delivering peer recovery services in the era of Affordable Care Act.

The representatives (n=40) from state and organizational agencies of mental health and substance abuse will represent a state from the 10 public health regions. States are identified by SAMHSA subject matter experts and stakeholders who are familiar with the structure and function of peer recovery support services. The sampling recommended by SAMHSA experts and stakeholders is a selection of states that have a strong history of providing peer led services and have an active peer-based organization.

The total estimated respondent burden is 20 hours for the period from April 2014 through September 2014. Table 1 below indicates the annualized respondent burden estimate.

Table 1—Annualized Respondent Burden Hours, 2014
Form name | Number of respondents | Responses per respondent | Total responses | Hours per response | Total hour burden
Structured Interview Questionnaire | 40 | 1 | 40 | .50 | 20

Send comments to Summer King, SAMHSA Reports Clearance Officer, Room 2-1057, One Choke Cherry Road, Rockville, MD 20857 OR email her a copy at summer.king@samhsa.hhs.gov. Written comments should be received by February 24, 2014.

Summer King,
Statistician.

[FR Doc. 2013-30646 Filed 12-23-13; 8:45 am]

BILLING CODE 4162-20-P